DEPARTMENT OF JUSTICE

Immigration and Naturalization Service

[INS No. 2212-02; AG Order No. 2597-2002]

RIN 1115-AE26

Extension of the Designation of El Salvador Under the Temporary Protected Status Program; Automatic Extension of Employment Authorization Documentation for Salvadorans

AGENCY: Immigration and Naturalization Service, Justice.

ACTION: Notice.

SUMMARY: The designation of El Salvador under the Temporary Protected Status (TPS) program will expire on September 9, 2002. This notice extends the Attorney General's designation of El Salvador for 12 months until September 9, 2003. This extension allows eligible nationals of El Salvador to re-register for TPS and to apply for an extension of their employment authorization documentation. The re-registration period will begin on September 9, 2002 and remain in effect through November 12, 2002.

Given the large number of Salvadorans affected by this notice and given that the initial registration period runs for the duration of the initial 18-month designation period, the Immigration and Naturalization Service (Service) recognizes that many re-registrants will not receive their new Employment Authorization Documents (EADs) until after their current EADs expire on September 9, 2002. Accordingly, this notice automatically extends, until March 9, 2003, the validity of EADs issued pursuant to the El Salvador TPS program, and explains how TPS beneficiaries or their employers may determine which EADs are automatically extended. This notice also sets forth procedures by which Salvadoran TPS class members must re-register for the 12-month extension.

EFFECTIVE DATES: The extension of the TPS designation for El Salvador is effective September 9, 2002, and will remain in effect until September 9, 2003. The re-registration period begins September 9, 2002 and will remain in effect until November 12, 2002. Applications for re-registration will not be accepted before September 9, 2002.

FOR FURTHER INFORMATION CONTACT: Emily Crowder Frazelle, Program Analyst, Residence and Status Branch, Adjudications, Immigration and Naturalization Service, 425 I Street, NW., Room 3040, Washington, D C 20536, telephone (202) 514-4754.

SUPPLEMENTARY INFORMATION:

What Authority Does the Attorney General Have To Extend the Designation of El Salvador Under the TPS Program?

Section 244(b)(3)(A) of the Immigration and Nationality Act (the Act) states that at least 60 days before the end of a designation, or any extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C. 1254a(b)(3)(C).

Why Did the Attorney General Decide To Extend the TPS Designation for El Salvador?

On March 9, 2001, the Attorney General initially designated El Salvador under the TPS program for a period of 18 months, based on a series of severe earthquakes that caused numerous fatalities and injuries and left 1.6 million people (over one-quarter of the country's population) without adequate housing. 66 FR 14214; Service Resource Information Center Report (RIC Report) (May 14, 2002). Following the initial designation, the Departments of State and Justice have monitored the reconstruction progress in El Salvador. The Attorney General's decision to extend the TPS designation is made on the determination that the conditions that warranted TPS designation initially continue to exist.

The Department of State reports that the earthquakes affected two-thirds of the country and damaged or destroyed over 300,000 houses. State Department Report (May 9, 2002). While the Government of El Salvador has made great strides in responding to the immediate humanitarian impact of the earthquakes, the Department of State reports that much of the country remains devastated. As of April 2002, the Government of El Salvador has replaced less than one quarter of the 170,000 homes destroyed by the earthquakes. Id. An estimated one half of all families who lost their homes remain in temporary metal or plastic shelters. RIC Report.

The Department of State also reports that El Salvador's infrastructure remains severely damaged. “More than three-quarters of the over 1,000 km. of damaged road [sic] needs repair.” State Department Report. The earthquakes affected 40 percent of the country's education and health infrastructure; many of the 2,200 schools, 120 health centers, and 900 public buildings damaged in the earthquakes have yet to be repaired or replaced. Id. The Service Resource Information Center reports that, by the beginning of 2002, there had been little reconstruction in the health sector. The seven most quake-damaged hospitals were described by health officials as still in a “critical state,” and work on rebuilding smaller healthcare facilities had only begun. RIC Report.

El Salvador's reconstruction efforts also have been hindered by delays in the disbursement of aid needed to rebuild. As of October 2001, El Salvador had received only 39 percent of the $354 million committed by donors, much of which has been from the United States. State Department Reportcommendation. While USAID is assisting reconstruction through a 2-year $110 million program, most of the major USAID activities did not commence until March 2002. Id.

The Service Resource Information Center reports that El Salvador's recovery has been further affected by a subsequent drought. Food stocks were already depleted following the earthquakes, and the drought has left at least 35,000 subsistence farming families destitute (approximately 318,000 people). As of April 2002, up to 200,000 people were still threatened by “food insecurity.” UNICEF reported in April 2002 that 34 percent of children in the four eastern departments most affected by last year's drought suffer from malnutrition, up from 12 percent in 2000. RIC Report. Ongoing housing shortages, damage to infrastructure, reduction in employment opportunities, and the infancy of the reconstruction effort render El Salvador temporarily unable to absorb the return of its nationals. State Department Report.

Based on this review, the Attorney General, after consultation with appropriate government agencies, finds that the conditions that prompted designation of El Salvador under the TPS program continue to be met. 8 U.S.C. 1254a(b)(3)(C). There continues to be a substantial, but temporary, disruption of living conditions in El Salvador as a result of environmental disaster, and El Salvador continues to be unable, temporarily, to handle adequately the return of its nationals. 8 U.S.C. 1254a(b)(1)(B)(i)-(ii). On the basis of these findings, the Attorney General concludes that the TPS designation for El Salvador should be extended for an additional 12-month period. 8 U.S.C. 1254a(b)(3)(C).

If I Currently Have TPS Benefits Through the El Salvador TPS Program, Do I Still Re-Register for TPS?

Yes. If you already have received TPS benefits through the El Salvador TPS program, your benefits will expire on September 9, 2002. Accordingly, you must re-register for TPS in order to maintain your benefits through September 9, 2003. See the following re-registration instructions. TPS benefits include temporary protection against removal from the United States, as well as work authorization, during the TPS designation period and any extension thereof. 8 U.S.C. 1254a(a)(1).

If My Initial El Salvador TPS Application Is Pending, Do I Still Re-Register for TPS?

Yes. If your initial TPS application is still pending approval, you must re-register for TPS during the re-registration period in order to be eligible for this extension. See the following re-registration instructions.

If I Am Currently Registered for TPS, How Do I Re-Register for an Extension?

All persons previously granted TPS benefits under the El Salvador TPS program who wish to maintain such benefits must apply for an extension by filing (1) a Form I-821, Application for Temporary Protected Status, without the filing fee; (2) a Form I-765, Application for Employment Authorization; and (3) two identification photographs (1½ inches x 1½ inches). See the chart below to determine whether you must submit the one hundred and twenty dollar ($120) filing fee with the Form I-765. Applicants for an extension of TPS benefits do not need to be re-fingerprinted and thus need not pay the fifty-dollar ($50) fingerprint fee. Child beneficiaries of TPS who have reached the age of fourteen (14) but were not previously fingerprinted must pay the fifty dollar ($50) fingerprint fee with the application for extension.

Submit the completed forms and applicable fee, if any, to the Service's service center office having jurisdiction over your place of residence during the 60-day re-registration period that begins September 9, 2002, and ends November 12, 2002 (inclusive of such end date). Applications will not be accepted before the re-registration period begins.

If | Then
You are applying for an Employment Authorization Document until September 9, 2003 | You must complete and file the Form I-765, Application for Employment Authorization, with the $120 fee.
You already have an Employment Authorization Document or do not require such a document | You must complete and file Form I-765 with no fee.
You are applying for an Employment Authorizataion Document and are requesting a fee waiver | You must complete and file: (1) Form I-765 with no fee and (2) a fee waiver request and affidavit (and any other information) in accordance with 8 CFR 244.20.

How Does an Application for TPS Affect My Application for Asylum or Other Immigration Benefits?

An application for TPS does not affect an application for asylum or any other immigration benefit. A national of El Salvador (or alien having no nationality who last habitually resided in El Salvador) who is otherwise eligible for TPS and has applied for, or plans to apply for, asylum, but who has not yet been granted asylum or withholding of removal, may also apply for TPS. Denial of an application for asylum or any other immigration benefit does not affect an applicant's ability to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of El Salvador (or aliens having no nationality who last habitually resided in El Salvador) Who Entered the United States After February 13, 2001, To Apply for TPS?

No. This is a notice of an extension of the TPS designation for El Salvador, not a notice of redesignation of El Salvador under the TPS program. An extension of TPS does not change the required dates of continuous residence and continuous physical presence in the United States. This extension does not expand TPS availability to those who are not already TPS class members. To be eligible for benefits under this extension, Salvadorans (or aliens having no nationality and who last habitually resided in El Salvador) must have resided continuously in the United States since February 13, 2001, and must have been continuously physically present in the United States since March 9, 2001.

Is Late Initial Registration Possible?

Yes. Some persons may be eligible for late initial registration under 8 CFR 244.2. To be eligible for late initial registration, an applicant must:

(1) Be a national of El Salvador (or alien who has no nationality and who last habitually resided in El Salvador);

(2) Have been continuously physically present in the United States since

March 9, 2001;

(3) Have continuously resided in the United States since February 13, 2001; and

(4) Be both admissible as an immigrant, except as provided under section 244(c)(2)(A) of the Act, and not ineligible under section 244(c)(2)(B) of the Act.

Additionally, the applicant must be able to demonstrate that during the initial registration period from March 9, 2001, through September 9, 2002, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the conditions described above. 8 CFR 244.2(g).

Why Is the Attorney General Automatically Extending the Validity of EADs From September 9, 2002, to March 9, 2003?

The Attorney General has decided to extend automatically the validity of EADs to prevent a lapse in Service-issued employment authorization documentation for qualified re-registrants during the time that re-registration applications are processed. Since Because the initial designation's registration period remains open until September 9, 2002, the Service will continue to receive and process initial TPS applications until the end of the initial designation period. To minimize overlapping receipts of both initial registration and re-registration applications, which are filed on the same forms but have different documentation and fee requirements, the Attorney General has elected to open the 60-day re-registration period only after the initial registration period closes on September 9, 2002. Given the staggering of initial registration and re-registration periods, and given the large number of Salvadoran TPS class members who are eligible for re-registration, re-registrants would receive their new EADs only after their current EADs have expired. To prevent a gap in employment authorization documentation for qualified re-registrants, the Attorney General is extending automatically the validity of the applicable EADs for a period of 6 months, to March 9, 2003. 8 U.S.C. 1254a(a)(2); 1254a(d)(1)-(2).

Who Is Eligible To Receive an Automatic Extension of His or Her EAD?

To receive an automatic extension of his or her EAD, an individual must be a national of El Salvador (or an alien having no nationality who last habitually resided in El Salvador) who has applied for and received an EAD under the initial TPS designation for El Salvador. This automatic extension is limited to EADs bearing an expiration date of September 9, 2002, and the notation: “A-12” or “C-19” on the face of the card under “Category” for EADs issued on Form I-766 or “274A.12(A)(12)” or 274A.12(C)(19)” on the face of the card under “Provision of Law” for EADs issued on Form I-688B.

TPS applicants who have not yet received their initial or provisional EAD, including those who apply after the date of this notice but before the initial registration period closes on September 9, 2002, may receive an EAD that facially expires on September 9, 2002. Such an EAD is covered by the automatic extension described above, even though some applicants may receive their EAD only after September 9, 2002.

Must Qualified Individuals Apply to the Service for the Automatic Extension of Their TPS-related EADs?

No, qualified individuals do not have to apply for this automatic employment authorization extension to March 9, 2003. However, qualified individuals must re-register for TPS during the re-registration period that begins on September 9, 2002, and continues through November 12, 2002, in order to be eligible for a new EAD that is valid until September 9, 2003.

What Documents May a Qualified Individual Show to His or Her Employer as Proof of Employment Authorization and Identity When Completing the Employment Eligibility Verification Form (Form I-9)?

For completion of the Form I-9 at the time of hire or re-verification, qualified individuals who have received an extension of employment authorization by virtue of this Federal Register notice may present to their employer a TPS-related EAD as proof of identity and employment authorization until March 9, 2003. To minimize confusion over this extension at the time of hire or re-verification, qualified individuals may also present to their employer a copy of this Federal Register notice regarding the automatic extension of employment authorization documentation to March 9, 2003. In the alternative, any legally acceptable document or combination of documents listed in List A, List B, or List C of the Form I-9 may be presented as proof of identity and employment eligibility; it is the choice of the employee.

How May Employers Determine Which EADs That Have Been Automatically Extended Through March 9, 2003, Are Acceptable for Completion of the Form I-9?

For purposes of verifying identity and employment eligibility or re-verifying employment eligibility on the Form I-9 until March 9, 2003, employers of Salvadoran TPS class members whose employment authorization has been automatically extended by this notice must accept an EAD that contains an expiration date of September 9, 2002, and that bears one of the following notations: “A-12” or “C-19” on the face of the card under “Category” for EADs issued on Form I-766; or, “274A.12(A) (12)” or “274A.12(c) (19)” on the face of the card under “Provision of Law” for EADs issued on Form I-688B. New EADs or extension stickers showing the March 9, 2003 expiration date will not be issued.

Employers should not request proof of Salvadoran citizenship. Employers presented with an EAD that this Federal Register notice has extended automatically and that appears to be genuine and to relate to the employee should accept the document as a valid “List A” document and should not ask for additional Form I-9 documentation. This action by the Attorney General through this Federal Register notice does not affect the right of an employee to present any legally acceptable document as proof of identity and eligibility for employment.

Employers are reminded that the laws prohibiting unfair immigration-related employment practices remain in full force. For questions, employers may call the Service's Office of Business Liaison Employer Hotline at 1-800-357-2099 to speak to a Service representative. Also, employers may call the Office of Special Counsel for Immigration Related Unfair Employment Practices (OSC) Employer Hotline at 1-800-255-8155, or 1-800-362-2735 (TDD). Employees or applicants may call the OSC Employee Hotline at 1-800-255-7688, or 1-800-237-2515 (TDD) for information regarding the automatic extension. Additional information is available on the OSC Web site at http://www.usdoj.gov/crt/osc/index.html.

Notice of Extension of Designation of El Salvador Under the TPS Program

By the authority vested in me as Attorney General under sections 244(b)(1)(B), (b)(3)(A), and (b)(3)(C) of the Act, I have consulted with the appropriate government agencies and determine that the conditions that prompted designation of El Salvador for TPS continue to be met. 8 U.S.C. 1254a(b)(3)(A). Accordingly, I order as follows:

(1) The designation of El Salvador under section 244(b)(1)(B) of the Act is extended for an additional 12-month period from September 9, 2002, to September 9, 2003. 8 U.S.C. 1254a(b)(3)(C).

(2) As of June 10, 2002, there are approximately 263,000 nationals of El Salvador (or aliens having no nationality who last habitually resided in El Salvador) who have applied for TPS and who are eligible for re-registration.

(3) To maintain TPS, a national of El Salvador (or an alien having no nationality who last habitually resided in El Salvador) who received TPS during the initial designation period must re-register for TPS during the 60-day re-registration period from September 9, 2002 until November 12, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization documentation, he or she must submit one hundred and twenty dollars ($120) or a properly documented fee waiver request, pursuant to 8 CFR 244.20, with the Form I-765. An applicant who does not request employment authorization documentation must nonetheless file Form I-765 along with Form I-821, but is not required to submit the fee. The fifty-dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on September 9, 2003, the Attorney General will review the designation of El Salvador under the TPS program and determine whether the conditions for designation continue to be met. 8 U.S.C. 1254a(b)(3)(A). Notice of that determination, including the basis for the determination, will be published in the Federal Register. 8 U.S.C. 1254a(b)(3)(A).

(6) TPS-related Employment Authorization Documents that expire on September 9, 2002 are extended automatically until March 9, 2003 for qualified Salvadorans.

(7) Information concerning the extension of designation of El Salvador under the TPS program will be available at local Service offices upon publication of this notice and the Service's National Customer Service Center at 1-800-375-5283. This information will also be posted on the Service Web site at http://www.ins.usdoj.gov.

Dated: July 8, 2002.
John Ashcroft,
Attorney General.

[FR Doc. 02-17479 Filed 7-8-02; 3:48 pm]

BILLING CODE 4410-10-P